DEPARTMENT OF LABOR

Employment and Training Administration

[TA-W-40,692]

Vartec CRM, Incorporated, Waco, TX; Notice of Negative Determination Regarding Application for Reconsideration

By application of March 14, 2002, the petitioner, requested administrative reconsideration of the Department's negative determination regarding eligibility for workers and former workers of the subject firm to apply for Trade Adjustment Assistance (TAA). The denial notice was signed on February 19, 2002 and published in the Federal Register on February 28, 2002 (67 FR 9324).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition, filed on behalf of workers at Vartec CRM, Incorporated, Waco, Texas engaged in providing customer relations management was denied because the workers did not produce an article within the meaning of Section 222(3) of the Act.

The petitioner alleges that the subject plant workers manufactured a product and refers to the product as information.

The activities of the customer relations management workers of providing information does not qualify as an article of production, but is considered a service function.

The subject workers do not produce an article within the meaning of Section 222(3) of the Act.

Conclusion

After review of the application and investigative findings, I conclude that there has been no error or misinterpretation of the law or of the facts which would justify reconsideration of the Department of Labor's prior decision. Accordingly, the application is denied.

Signed at Washington, DC, this 9th day of May, 2002.
Edward A. Tomchick,
Director, Division of Trade Adjustment Assistance.

[FR Doc. 02-14595 Filed 6-10-02; 8:45 am]

BILLING CODE 4510-30-P